FEDERAL COMMUNICATIONS COMMISSION

[CG Docket Nos. 17-59, 02-278, 25-307, WC Docket No. 17-97; FCC 25-76; FR ID 319340]

Federal Communications Commission Announces Intent To Dismiss Certain Older Petitions and Applications Related to the Telephone Consumer Protection Act

AGENCY: Federal Communications Commission.

ACTION: Notice; request for comments.

SUMMARY: In this document, the Federal Communications Commission (FCC or Commission) announces the availability of the FCC's Public Notice stating the intent to dismiss with prejudice certain older Petitions for Reconsideration and Applications for Review related to the Telephone Consumer Protection Act.

DATES: Objections to dismissal of its Petition for Reconsideration or Application for Review are due on or before January 12, 2026.

FOR FURTHER INFORMATION CONTACT: John B. Adams, Consumer Policy Division, Consumer and Governmental Affairs Bureau at (202) 418-2854 or JohnB.Adams@fcc.gov.

SUPPLEMENTARY INFORMATION: This is a summary of the Commission's Ninth Further Notice of Proposed Rulemaking; Seventh Further Notice of Proposed Rulemaking; Further Notice of Proposed Rulemaking; and Public Notice (Public Notice) in CG Docket No. 17-59, WC Docket No. 17-97, CG Docket Nos. 02-278 and 25-307; FCC 25-76, released on October 29, 2025. The full text of this document, including instructions on how to file objection letters; the table listing the Petitions for Reconsideration and Applications for Review intended to be dismissed with prejudice; and copies of any subsequently filed documents in this matter, will be available for public inspection and copying via ECFS at: https://www.fcc.gov/ecfs/ and available online at https://docs.fcc.gov/public/attachments/FCC-25-76A1.pdf.

To request this document in accessible formats for people with disabilities (Braille, large print, electronic files, audio format) or to request reasonable accommodations (e.g. accessible format documents, sign language interpreters, CART), send an email to fcc504@fcc.gov or call the Consumer and Governmental Affairs Bureau at (202) 418-0530 (voice).

Federal Communications Commission.
Marlene Dortch,
Secretary, Office of the Secretary.

[FR Doc. 2025-21323 Filed 11-26-25; 8:45 am]

BILLING CODE 6712-01-P